SMALL BUSINESS ADMINISTRATION

[License No. 03/03-0247]

Solutions Capital I, L.P.; Notice Seeking Exemption Under Section 312 of the Small Business Investment Act, Conflicts of Interest

Notice is hereby given that Solutions Capital I, L.P., 1100 Wilson Blvd., Suite 3000, Arlington, VA 22209, a Federal Licensee under the Small Business Investment Act of 1958, as amended (“the Act”), in connection with the financing of a small concern, has sought an exemption under Section 312 of the Act and Section 107.730, Financings which Constitute Conflicts of Interest, of the Small Business Administration (“SBA”) Rules and Regulations (13 CFR 107.730). Solutions Capital I, L.P., proposes to provide equity/debt security financing to Total Sleep Holdings, Inc., 1425 Greenway Drive, Suite 300, Irving, TX 75038. The financing is contemplated for the pay down of an existing senior lender and for working capital.

The financing is brought within the purview of § 107.730(a)(1) of the Regulations because MCG Capital Corporation, an Associate of Solutions Capital I, L.P., owns more than ten percent of Total Sleep Holdings, Inc.; therefore Total Sleep Holdings, Inc. is considered an Associate of Solutions Capital I, L.P., as defined in Sec. 105.50 of the regulations.

Notice is hereby given that any interested person may submit written comments on the transaction to the Associate Administrator for Investment, U.S. Small Business Administration, 409 Third Street, SW., Washington, DC 20416.

Dated: March 15, 2009.
Harry E. Haskins,
Acting Associate Administrator for Investment.

[FR Doc. E9-6379 Filed 3-23-09; 8:45 am]

BILLING CODE 8025-01-P